DEPARTMENT OF ENERGY

Federal Energy Regulatory Commission

[Project No. 420-009, Alaska]

City of Ketchikan and Ketchikan Public Utilities; Notice of Availability of Final Environmental Assessment

May 18, 2000.

In accordance with the National Environmental Policy Act of 1969 and the Federal Energy Regulatory Commission's (Commission) regulations, 18 CFR part 380 (Order No. 486, 52 FR 47897), the Office of Energy Projects has reviewed the application for a new license for the Ketchikan Lakes Hydroelectric Project, and has prepared a Final Environmental Assessment (FEA). The project is located on Ketchikan Creek and Granite Basin Creek, near the City of Ketchikan, in Ketchikan Gateway Borough, Alaska. The project uses lands administered by the U.S. Forest Service in the Tongass National Forest. The Forest Service is a cooperating agency on this environmental assessment. The FEA contains the staff's analysis of the potential environmental impacts of the project and concludes that licensing the project, with appropriate environmental protective measures, would not constitute a major federal action that would significantly affect the quality of the human environment.

Copies of the FEA are available for review in the Public Reference Room, Room 2A, of the Commission's offices at 888 First Street, NW., Washington, DC 20426. This FEA may also be viewed on the web at http://www.ferc.fed.us/online/rims.htm (please call (202) 208-2222 for assistance). For further information, contact Charles Hall at (202) 219-2853.

Linwood A. Watson, Jr.,
Acting Secretary.

[FR Doc. 00-13010 Filed 5-23-00; 8:45 am]

BILLING CODE 6717-01-M